DEPARTMENT OF INTERIOR

Bureau of Land Management

(UT-060-1610-DU)

Notice of Intent; Environmental Assessment; Grand Resource Area Management Plan; Moab, UT

AGENCY: Bureau of Land Management, Interior.

ACTION: Notice of Intent to prepare an Environmental Assessment (EA) and consider amending the Grand Resource Area Resource Management Plan (RMP); Moab, Utah.

SUMMARY: Pursuant to the Bureau of Land Management (BLM) Planning Regulations (43 CFR Part 1600) this notice advises the public that the Utah Bureau of Land Management (BLM), Moab Field Office, is considering a proposal which would require amending an existing planning document. The BLM will prepare an Environmental Assessment (EA) and consider amending the 1985 Grand Resource Area RMP to achieve consistency in management of several resources for the Canyon Rims Recreation Area (a Special Recreation Management Area encompassing 100,273 acres of public land located within San Juan County, Utah).

DATES: The comment period for this proposed plan amendment will commence with publication of this notice. For 30 days from the date of publication of this notice in the Federal Register, the BLM will accept comments on this proposal. There will also be opportunity for public comment during the planning process.

ADDRESSES: Comments should be sent to the BLM Moab Field Office, 82 East Dogwood, Avenue, Moab, Utah 84532.

Comments, including names and street addresses of respondents, will be available for public review at the Utah BLM Moab Field Office and will be subject to disclosure under the Freedom of Information Act (FOIA). They may be published as part of the EA and other related documents. Individual respondents may request confidentiality. If you wish to withhold your name or street address from public review and disclosure under the FOIA, you must state this prominently at the beginning of your written comment. Such requests will be honored to the extent allowed by law. All submissions from organizations or businesses will be made available for public inspection in their entirety.

FOR FURTHER INFORMATION CONTACT: Katie Stevens, at the above address or telephone (435) 259-2100. Existing planning documents and information are also available at the Moab Field Office.

SUPPLEMENTARY INFORMATION: After interdisciplinary review, no specific planning criteria were determined necessary for this proposed plan amendment. The following preliminary issues have been identified for the proposed plan amendment; they represent the BLM's knowledge to date on the existing issues and concerns with current management:

1. Managing the Recreation Area to maintain its visual quality following objectives established for visual resource management (VRM) classes in the BLM Visual Resource Management System. BLM has inventoried the area and found it to contain VRM Classes II and III. As a result of this analysis of visual resources, a potential impact could be that oil and gas leasing categories may change to ensure consistency. Currently, the Recreation Area contains 53,518 acres in Category 1 (open to oil and gas leasing with standard stipulations) and 46,040 acres in Category 2 (open to oil and gas leasing with special stipulations).

2. Off Highway Vehicle (OHV) designations for the Canyon Rims Recreation Area. The 1985 Grand RMP divided the Recreation Area into two OHV designations. The western portion of the area (40,656 acres) is “limited to existing roads and trails,” while the eastern portion (58,306 acres) is in the “open” category. As a result of this analysis of OHV designations, a potential impact is that OHV designations could change.

Dated: March 29, 2002.
Robert A. Bennett,
Acting State Director, Utah.

[FR Doc. 02-16002 Filed 6-24-02; 8:45 am]

BILLING CODE 4310-$$-P